DEPARTMENT OF ENERGY

Federal Energy Regulatory Commission

Combined Notice of Filings #2

Take notice that the Commission received the following electric rate filings:

Docket Numbers: ER10-1651-002.

Applicants: Golden State Water Company.

Description: Updated market power analysis of Golden State Water Company.

Filed Date: 6/27/13.

Accession Number: 20130627-5091.

Comments Due: 5 p.m. ET 8/26/13.

Docket Numbers: ER12-1663-000.

Applicants: Midwest Independent Transmission System Operator, Inc.

Description: Request for Waiver of Midwest Independent Transmission System Operator, Inc.

Filed Date: 12/17/12.

Accession Number: 20121217-5255.

Comments Due: 5 p.m. ET 7/8/13.

Docket Numbers: ER13-1799-000.

Applicants: GenOn Potomac River, LLC.

Description: Notice of Succession—Potomac River to be effective 6/28/2013.

Filed Date: 6/27/13.

Accession Number: 20130627-5037.

Comments Due: 5 p.m. ET 7/18/13.

Docket Numbers: ER13-1800-000.

Applicants: GenOn Power Midwest, LP.

Description: Notice of Succession—Reliability—Power Midwest to be effective 6/28/2013.

Filed Date: 6/27/13.

Accession Number: 20130627-5038.

Comments Due: 5 p.m. ET 7/18/13.

Docket Numbers: ER13-1801-000.

Applicants: GenOn Power Midwest, LP.

Description: Notice of Succession—MBR—Power Midwest to be effective 6/28/2013.

Filed Date: 6/27/13.

Accession Number: 20130627-5040.

Comments Due: 5 p.m. ET 7/18/13.

Docket Numbers: ER13-1802-000.

Applicants: GenOn REMA, LLC.

Description: Notice of Succession—REMA to be effective 6/28/2013.

Filed Date: 6/27/13.

Accession Number: 20130627-5041.

Comments Due: 5 p.m. ET 7/18/13.

Docket Numbers: ER13-1803-000.

Applicants: GenOn West, LP.

Description: Notice of Succession—California South to be effective 6/28/2013.

Filed Date: 6/27/13.

Accession Number: 20130627-5042.

Comments Due: 5 p.m. ET 7/18/13.

Docket Numbers: ER13-1804-000.

Applicants: Southern California Edison Company.

Description: IFA and Distribution Service Agreement with Wintec Energy to be effective 6/1/2013.

Filed Date: 6/27/13.

Accession Number: 20130627-5055.

Comments Due: 5 p.m. ET 7/18/13.

Docket Numbers: ER13-1805-000.

Applicants: Southern California Edison Company.

Description: Revised Added Facilities Rate for Green Borders Geothermal, LLC to be effective 1/1/2013.

Filed Date: 6/27/13.

Accession Number: 20130627-5057.

Comments Due: 5 p.m. ET 7/18/13.

Docket Numbers: ER13-1806-000.

Applicants: Arizona Public Service Company.

Description: Cancellation of APS Service Schedule 305 to be effective 8/26/2013.

Filed Date: 6/27/13.

Accession Number: 20130627-5058.

Comments Due: 5 p.m. ET 7/18/13.

Docket Numbers: ER13-1807-000.

Applicants: Southwest Power Pool, Inc.

Description: MISO-SPP Joint Operating Agreement Baseline to be effective 6/27/2013.

Filed Date: 6/27/13.

Accession Number: 20130627-5061.

Comments Due: 5 p.m. ET 7/18/13.

Docket Numbers: ER13-1808-000.

Applicants: Northern States Power Company, a Minnesota corporation.

Description: 2013-6-27_CAPX_OMA_Fargo_307_0.2.0_Filing to be effective 9/28/2012.

Filed Date: 6/27/13.

Accession Number: 20130627-5062.

Comments Due: 5 p.m. ET 7/18/13.

Docket Numbers: ER13-1809-000.

Applicants: Southwest Power Pool, Inc.

Description: 2198R7 Kansas Power Pool NITSA and NOA to be effective 5/1/2013.

Filed Date: 6/27/13.

Accession Number: 20130627-5064.

Comments Due: 5 p.m. ET 7/18/13.

Docket Numbers: ER13-1810-000.

Applicants: New York State Electric & Gas Corporation.

Description: Attachment C—O&M Annual Update to be effective 9/1/2013.

Filed Date: 6/27/13.

Accession Number: 20130627-5066.

Comments Due: 5 p.m. ET 7/18/13.

Docket Numbers: ER13-1811-000.

Applicants: Sky River LLC.

Description: Amended and Restated Shared Facilities Agreement to be effective 6/28/2013.

Filed Date: 6/27/13.

Accession Number: 20130627-5073.

Comments Due: 5 p.m. ET 7/18/13.

Docket Numbers: ER13-1812-000.

Applicants: Northern States Power Company, a Minnesota corporation.

Description: 2013-6-27_CAPX_TCEA_Fargo_281_0.2.0_Filing to be effective 9/28/2012.

Filed Date: 6/27/13.

Accession Number: 20130627-5079.

Comments Due: 5 p.m. ET 7/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2013.
Nathaniel J. Davis, Sr.,
Deputy Secretary.

[FR Doc. 2013-16324 Filed 7-8-13; 8:45 am]

BILLING CODE 6717-01-P